DEPARTMENT OF HOMELAND SECURITY

Coast Guard

[USCG-2007-27987]

National Maritime Security Advisory Committee

AGENCY: Coast Guard, DHS.

ACTION: Committee Management: request for applicants for appointment/reappointment to the National Maritime Security Advisory Committee.

SUMMARY: The Secretary of the Department of Homeland Security is requesting individuals who are interested in serving on the National Maritime Security Advisory Committee to apply for appointment/reappointment. NMSAC provides advice and makes recommendations on national maritime security matters to the Secretary of Homeland Security via the Commandant of the United States Coast Guard.

DATES: Applications for membership must be sent complete and postmarked to the Coast Guard address listed below no later than 4 p.m. EDT June 29, 2007.

ADDRESSES: Interested candidates may request an application form by one of the following methods:

• E-mail: NMSAC@uscg.mil, Subject line: NMSAC Application Form Request,

• Fax: 202-372-1905, ATTN: NMSAC DFO/EA, please provide name, mailing address and telephone and fax numbers to send application forms to.

• Mail: Send written requests for forms and completed application packets to: USCG-NMSAC Executive Secretary, CG-3PCP-1, Room 5302, U.S. Coast Guard Headquarters, 2100 Second St., SW., Washington, DC 20593-0001, please provide name, mailing address and telephone and fax numbers to send application forms to.

• Internet: To download a PDF or MS-Word application form visit NMSAC Web site at http://homeport.uscg.mil/mycg/portal/ep/home.do under Missions>Maritime Security>National Maritime Security Advisory Committee>Member Application Forms.

FOR FURTHER INFORMATION CONTACT: Mr. Ike Eisentrout, Commandant (CG-3PCP-1), NMSAC Executive Secretary, U.S. Coast Guard Headquarters, Room 5302, 2100 Second St., SW., Washington, DC 20593-0001, brian.k.eisentrout@uscg.mil, Phone: 202-372-1119, Fax: 202-372-1905.

SUPPLEMENTARY INFORMATION: The National Maritime Security Advisory Committee (NMSAC) is an advisory committee established in accordance with the provisions of the Federal Advisory Committee Act 5 U.S.C. App. 2. Section 70112 to Title 46 of the U.S. Code requires the Secretary of the Department in which the Coast Guard is operating to establish a NMSAC. The NMSAC advises, consults with, reports to, and makes recommendations to the Secretary on matters relating to national maritime security. Such matters may include, but are not be limited to:

• Developing a national strategy and policy to provide for efficient, coordinated and effective action to deter and minimize damage from maritime transportation security incidents;

• Recommending actions required to meet current and future security threats to ports, vessels, facilities, waterways and their associated inter-modal transportation connections and critical infrastructure;

• Promoting international cooperation and multilateral solutions to maritime security issues;

• Addressing security issues and concerns brought to the Committee by segments of the marine transportation industry, or other port and waterway stakeholders; and,

• Examining such other matters, related to those above, that the Secretary may charge the Committee with addressing.

NMSAC members' terms of office will be for 5 years. For this solicitation terms will commence on January 1, 2008 and end December 31, 2010. While 46 U.S.C. 70112 states the NMSAC terminates on September 30, 2008, appointments will be made in anticipation of an extension of this statutory authority. Current members are eligible to serve an additional term of office but must re-apply in accordance with this notice. Full NMSAC (in-person) meetings are normally conducted two to three times per fiscal year. Working group meetings and teleconferences are held more frequently, as needed. While attending meetings or when otherwise engaged in committee business, members will be reimbursed for travel and per diem expenses as permitted under applicable Federal travel regulations. However, members will not receive any salary or other compensation for their service on the NMSAC. Due to the nature of NMSAC business, NMSAC members are required to apply for, obtain and maintain a government national security clearance at the Secret level. The Coast Guard will sponsor and assist candidates with this process.

Specific Qualifications: NMSAC members are appointed in writing by the Secretary of Homeland Security. Members from the following sectors of the marine transportation industry with a minimum of five years experience in their field are encouraged to apply:

• Port Operations Management/Port Authorities

• Maritime Security Operations and Training

• Marine Salvage Operations

• Maritime Security Related Academics/Public Policy

• Marine Facilities and Terminals Security Management

• Vessel Owners/Operators

• Maritime Labor

• International and Inter-modal Supply Chain

• Maritime Hazardous Materials Handling/Shipping

• State and Local Government (Homeland Security, Law Enforcement, First Response)

In support of the policy of the Department of Homeland Security on gender and ethnic diversity, the Coast Guard encourages applications from qualified women and members of minority groups.

Members of NMSAC will be appointed and serve as Special Government Employees (SGE) as defined in section 202(a) of title 18 United States Code and are not industry representatives. As candidates for appointment as SGEs, applicants are required to complete Confidential Financial Disclosure Reports (OGE Form 450). DHS may not release the reports or the information in them to the public except under an order issued by a Federal court or as otherwise provided under the Privacy Act (5 U.S.C. 552a). Applicants can obtain this form by going to the website of the Office of Government Ethics (http://www.oge.gov), or by contacting the individual listed above. Applications which are not accompanied by a completed OGE Form 450 will not be considered.

Dated: May 4, 2007.
Mark P. O'Malley,
Captain, U.S. Coast Guard, Office of Port and Facility Activities.

[FR Doc. E7-9244 Filed 5-14-07; 8:45 am]

BILLING CODE 4910-15-P